DEPARTMENT OF LABOR

Employment and Training Administration

[TA-W-58,728]

U.S. Security Associates, Inc. Working On-Site at Techneglas, Inc. Pittston, PA; Dismissal of Application for Reconsideration

Pursuant to 29 CFR 90.18(C) an application for administrative reconsideration was filed with the Director of the Division of Trade Adjustment Assistance for workers at U.S. Security Associates, Inc., Working On-Site at Techneglas, Inc., Pittston, Pennsylvania. The application did not contain new information supporting a conclusion that the determination was erroneous, and also did not provide a justification for reconsideration of the determination that was based on either mistaken facts or a misinterpretation of facts or of the law. Therefore, dismissal of the application was issued.

TA-W-58,728; U.S. Security Associates, Inc., Working On-Site at Techneglas, Inc., Pittston, Pennsylvania, (April 24, 2006).

Signed at Washington, DC, this 26th day of April 2006.
Erica R. Cantor
Director, Division of Trade Adjustment Assistance.

[FR Doc. E6-6838 Filed 5-4-06; 8:45 am]

BILLING CODE 4510-30-P